DEPARTMENT OF HEALTH AND HUMAN SERVICES

Centers for Disease Control and Prevention

[30Day-09-09AJ]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Centers for Public Health Preparedness Program Evaluation—New—Coordinating Office for Terrorism Preparedness & Emergency Response (COTPER), Centers for Disease Control and Prevention (CDC).

Background and Brief Description

Under the Authority of Sections 301(a) and 317(k)(2) of Public Health Service Act, the Centers for Disease Control and Prevention is responsible for administering and monitoring the Centers for Public Health Preparedness (CPHP) Program. The purpose of the CPHP Program is to strengthen terrorism and emergency preparedness by linking academic expertise to state and local health agency needs. The program brings together colleges and universities with a common focus on public health preparedness to establish a national network of education and training resources. Of these institutions, 27 are accredited Schools of Public Health funded through a five-year Cooperative Agreement for years 2004-2009. This program addresses the public health goals described in “A National Strategy for Terrorism Preparedness and Response: 2003-2008 Strategic Plan,” specifically Imperative Five, a Competent and Sustainable Workforce. Critical objectives under this Imperative are to: (1) Increase the number and type of professionals that comprise a preparedness and response workforce; (2) deliver certification and competency-based training and education; (3) recruit and retain the highest quality workforce; and (4) evaluate the impact of training to ensure learning has occurred.

CDC requests OMB approval for a period of one year to collect information beginning in the fall of 2009. CDC is undertaking a summative evaluation of the CPHP Program encompassing the period of the current Cooperative Agreement. In order to complete this evaluation, CDC is proposing three data collection instruments to gather information describing the program's processes and outcomes. These are: (1) CPHP Interview Instrument; (2) CPHP Customer/Partner Survey Instrument; and (3) CPHP Customer/Partner Follow-Up Interview Instrument. Collectively, these instruments are needed in order to gather, process, aggregate, evaluate, and disseminate CPHP program information. The information will be used by CDC to document progress toward meeting established program goals and objectives, to evaluate outcomes generated by the collective work of the 27 Centers, to inform the development of a new public health preparedness education and training cooperative agreement program, and to respond to data inquiries made by CDC and other agencies of the federal government.

The CPHP Interview Instrument will be used to guide a telephone interview process with key CPHP staff. Questions will gather perceptions about the CPHP Program from the perspective of CPHP staff. It is estimated that there will be a total of 81 respondents with an estimated time for data collection of 90 minutes. The CPHP Customer/Partner Survey Instrument will be used to gather information from representatives of organizations that have received training or technical assistance from the CPHP Program. It will be administered electronically with an option for paper copy administration. It is estimated that there will be one request per respondent and a total of 171 respondents with an estimated time for data collection of 20 minutes. The CPHP Customer/Partner Follow-Up Interview Instrument will be used to gather more in-depth information on the same categories of questions from the Survey Instrument. It is estimated that there will be a total of 20 respondents with an estimated time for data collection of 45 minutes. The annualized estimated burden hours are 193.5.

There are no costs to respondents except their time.

Estimated Annualized Burden Hours
Type of respondent | Form name | Number of respondents | Number of responses per respondent | Average burden per response (in hours) | Total burden (in hours)
CPHP PIs, PCs, and Evaluators | CPHP Interview Instrument | 81 | 1 | 1.5 | 121.5
CPHP Customers and Partners | CPHP Customer/Partner Survey Instrument | 171 | 1 | 20/60 | 57
CPHP Customers and Partners | CPHP Customer/Partner Follow-Up Interview Instrument | 20 | 1 | 45/60 | 15

Dated: July 2, 2009.
Marilyn I. Radke,
Reports Clearance Officer, Centers for Disease Control and Prevention.

[FR Doc. E9-16225 Filed 7-8-09; 8:45 am]

BILLING CODE 4163-18-P